DEPARTMENT OF HOUSING AND URBAN DEVELOPMENT

[Docket No. FR-5365-D-01]

Office of General Counsel; Order of Succession

AGENCY: Office of General Counsel, HUD.

ACTION: Notice of Order of Succession.

SUMMARY: In this notice, the General Counsel for the Department of Housing and Urban Development designates the Order of Succession for the Office of General Counsel. This Order of Succession supersedes the Order of Succession for the General Counsel published on March 28, 2007.

DATES: Effective Date: November 10, 2009.

FOR FURTHER INFORMATION CONTACT: Lawrence D. Reynolds, Assistant General Counsel for Administrative Law, Office of General Counsel, Department of Housing and Urban Development, 451 7th Street, SW., Washington, DC 20410-0500, (202) 402-3502. (This is not a toll-free number.) This number may be accessed through TTY by calling the toll-free Federal Information Relay Service at (800) 877-8339.

SUPPLEMENTARY INFORMATION:

The General Counsel for the Department of Housing and Urban Development is issuing this Order of Succession of officials authorized to perform the functions and duties of the Office of General Counsel when, by reason of absence, disability, or vacancy in office, the General Counsel is not available to exercise the powers or perform the duties of the office. This Order of Succession is subject to the provisions of the Federal Vacancies Reform Act of 1998 (5 U.S.C. 3345-3349d). This publication supersedes the Order of Succession notice of March 28, 2007 (72 FR 14608).

Accordingly, the General Counsel designates the following Order of Succession:

Section A. Order of Succession

Subject to the provisions of the Federal Vacancies Reform Act of 1998, during any period when, by reason of absence, disability, or vacancy in office, the General Counsel for the Department of Housing and Urban Development is not available to exercise the powers or perform the duties of the General Counsel, the following officials within the Office of General Counsel are hereby designated to exercise the powers and perform the duties of the Office:

(1) Principal Deputy General Counsel or General Deputy General Counsel;

(2) Deputy General Counsel for Enforcement and Fair Housing;

(3) Deputy General Counsel for Operations;

(4) Deputy General Counsel for Housing Programs;

(5) Associate General Counsel for Insured Housing;

(6) Associate General Counsel for Assisted Housing and Community Development;

(7) Associate General Counsel for Legislation and Regulations;

(8) Associate General Counsel for Finance and Administrative Law;

(9) Associate General Counsel for Litigation;

(10) Associate General Counsel for Ethics and Personnel Law;

(11) Associate General Counsel for Program Enforcement;

(12) Associate General Counsel for Fair Housing.

These officials shall perform the functions and duties of the office in the order specified herein, and no official shall serve unless all the other officials, whose position titles precede his/hers in this order, are unable to act by reason of absence, disability, or vacancy in office.

Section B. Authority Superseded

This Order of Succession supersedes the Order of Succession for the General Counsel published on March 28, 2007 (72 FR 14608).

Authority: Section 7(d), Department of Housing and Urban Development Act, 42 U.S.C. 3535(d).

Dated: November 10, 2009.
Helen R. Kanovsky,
General Counsel.

[FR Doc. E9-28786 Filed 11-30-09; 8:45 am]

BILLING CODE 4210-67-P